DEPARTMENT OF TRANSPORTATION

Federal Aviation Administration

Notice of Intent To Rule on Request To Release Airport Property at Durant Regional—Eaker Field, Durant, Oklahoma

AGENCY: Federal Aviation Administration (FAA), DOT.

ACTION: Notice of request to release airport property.

SUMMARY: The FAA proposes to rule and invites public comment on the release of land at Durant Regional—Eaker Field, Durant, Oklahoma.

DATES: Comments must be received on or before July 27, 2015.

ADDRESSES: Comments on this application may be mailed or delivered to the FAA at the following address: Mr. Glenn Boles, Federal Aviation Administration, Southwest Region, Airports Division, Manager—Arkansas/Oklahoma Airports Development Office, ASW-630, Fort Worth, Texas 76137-0630.

FOR FURTHER INFORMATION CONTACT: Mr. Tim House, Federal Aviation Administration, Arkansas/Oklahoma Airports Development Office, ASW-630, 2601 Meacham Boulevard, Fort Worth, Texas 76137-0630.

The request to release property may be reviewed in person at this same location.

SUPPLEMENTARY INFORMATION: The FAA invites public comment on the request to release property at Durant Regional—Eaker Field under the provisions of Section 125 of the Wendell H. Ford Aviation Investment Reform Act for the 21st Century (AIR 21).

The following is a brief overview of the request:

The City of Durant has requested release of a parcel comprised of 5.92 acres acquired through provisions of Executive Order 9689, dated January 31, 1946 and the Surplus Property Act of 1944 with aeronautical rights attached. The property is located on the west side of the airport and is indentified as Lot 1 of Amended Durant Regional Airport Industrial Park. The parcel is separated from aviation activity by Cessna Road and is located outside of the airport perimeter fence. As airport owner, the City of Durant has requested a full release of their airport obligations. The city plans to construct a Regional Emergency Operations Center (REOC) on the property. As a condition of the transfer, the city will provide $73,670.00 to fund construction of T-hangars at Durant Regional—Eaker Field.

Any person may inspect the request in person at the FAA office listed above under FOR FURTHER INFORMATION CONTACT.

In addition, any person may, upon request, inspect the application, notice and other documents germane to the application in person at the Durant Regional Airport.

Issued in Fort Worth, Texas, on June 19, 2015.
Ignacio Flores,
Manager, Airports Division, Southwest Region.

[FR Doc. 2015-15773 Filed 6-25-15; 8:45 am]

BILLING CODE P